DEPARTMENT OF VETERANS AFFAIRS

Advisory Committee on Former Prisoners of War, Notice of Meeting

The Department of Veterans Affairs (VA) gives notice under the Federal Advisory Committee Act that the Advisory Committee on Former Prisoners of War (Committee) will meet virtually via conference call on May 26-28, 2020 from 1:00 p.m.-3:00 p.m. EDT daily. The meeting sessions are open to the public and can be accessed via telephone at 1-844-358-7954, access code: 6859230129#.

The purpose of the Committee is to advise the Secretary of Veterans Affairs on the administration of benefits under Title 38 U.S.C., for Veterans who are Former Prisoners of War (FPOW), and to make recommendations on the needs of such Veterans for compensation, health care, rehabilitation, and memorial benefits.

On Tuesday, May 26th through Thursday, May 28th, the Committee will hear briefings from VA officials; conversations open to FPOWs, family members and Survivors; and engage in discussion of committee issues.

Any member of the public may also submit a 1-2-page commentary for the Committee's review. Any member of the public seeking additional information should contact Ms. Leslie Williams, Designated Federal Officer, Department of Veterans Affairs, Advisory Committee on Former Prisoners of War at Leslie.Williams1@va.gov or via phone at (202) 530-9219.

Dated: May 6, 2020.
Jelessa M. Burney,
Federal Advisory Committee Management Officer.

[FR Doc. 2020-09971 Filed 5-8-20; 8:45 am]

BILLING CODE P